ENVIRONMENTAL PROTECTION AGENCY

[FRL-7547-2]

Protection of Stratospheric Ozone: Notice 18 for Significant New Alternatives Policy Program

AGENCY: Environmental Protection Agency.

ACTION: Notice of acceptability.

SUMMARY: This Notice of Acceptability expands the list of acceptable substitutes for ozone-depleting substances (ODS) under the U.S. Environmental Protection Agency's (EPA) Significant New Alternatives Policy (SNAP) program. The substitutes are for use in the following sectors: refrigeration and air conditioning, solvents cleaning, foam blowing, fire suppression and explosion protection, and aerosols.

EFFECTIVE DATE: August 21, 2003.

ADDRESSES: Information relevant to this notice is contained in Air Docket A-91-42, 1301 Constitution Avenue, NW.; U.S. Environmental Protection Agency, Mail Code 6102T; Washington, DC 20460. The docket reading room is located at the address above in room B102 in the basement. Reading room telephone: (202) 566-1744, facsimile: (202) 566-1749, Air docket staff telephone: (202) 566-1742 and facsimile: (202) 566-1741 You may inspect the docket between 8:30 a.m. and 4:30 p.m. weekdays. As provided in 40 CFR part 2, a reasonable fee may be charged for photocopying.

FOR FURTHER INFORMATION CONTACT: Margaret Sheppard by telephone at (202) 564-9163, by fax at (202) 565-2155, by e-mail at sheppard.margaret@epa.gov, or by mail at U.S. Environmental Protection Agency, 1200 Pennsylvania Avenue, NW., Mail Code 6205J, Washington, DC 20460. Overnight or courier deliveries should be sent to 501 3rd Street, NW., Washington, DC 20001.

For more information on the Agency's process for administering the SNAP program or criteria for evaluation of substitutes, refer to the original SNAP rulemaking published in the Federal Register on March 18, 1994 (59 FR 13044). Notices and rulemakings under the SNAP program, as well as other EPA publications on protection of stratospheric ozone, are available from EPA's Ozone Depletion World Wide Web site at http://www.epa.gov/ozone/ including the SNAP portion at http://www.epa.gov/ozone/snap/.

EPA has established an official public docket for this action under Docket ID No. OAR-2003-0118 (continuation Docket A-91-42). The official public docket consists of the documents specifically referenced in this action and other information related to this action. Although a part of the official docket, the public docket does not include Confidential Business Information (CBI) or other information whose disclosure is restricted by statute. The official public docket is the collection of materials that is available for public viewing at the Air and Radiation Docket in the EPA Docket Center, (EPA/DC) EPA West, Room B102, 1301 Constitution Ave., NW., Washington, DC. The EPA Docket Center Public Reading Room is open from 8:30 a.m. to 4:30 p.m., Monday through Friday, excluding legal holidays. The telephone number for the Public Reading Room is (202) 566-1744, and the telephone number for the Air and Radiation Docket is (202) 566-1742.

An electronic version of the public docket is available through EPA's electronic public docket and comment system. EPA Dockets. You may use EPA Dockets at http://www.epa.gov/edocket/ to view public comments, access the index listing of the contents of the official public docket, and to access those documents in the public docket that are available electronically. Although not all docket materials may be available electronically, you may still access any of the publicly available docket materials through the docket facility identified in the previous paragraph. Once in the system, select “search,” then key in the appropriate docket identification number (OAR-2003-0118).

SUPPLEMENTARY INFORMATION:

I. Listing of Acceptable Substitutes

A. Refrigeration

B. Solvents Cleaning

C. Foam Blowing

D. Fire Suppression and Explosion Protection

E. Aerosols

II. Section 612 Program

A. Statutory Requirements

B. Regulatory History

Appendix A—Summary of Acceptable Decisions

I. Listing of Acceptable Substitutes

This section presents EPA's most recent acceptable listing decisions for substitutes in the following industrial sectors: refrigeration and air conditioning, solvents, cleaning, foam blowing, fire suppression and explosion protection, and aerosols. For copies of the full lists of SNAP decisions in all industrial sectors, visit EPA's Ozone Depletion Web site at http://www.epa.gov/ozone/snap/lists/index.html.

The sections below discuss each substitute listing in detail. Appendix A contains a table summarizing today's listing decisions. The statements in the “Further Information” column in the table provide additional information, but are not legally binding under section 612 of the Clean Air Act. In addition, the “further information” may not be a comprehensive list of other legal obligations you may need to meet when using the substitute. Although you are not required to follow recommendations in the “further information” column of the table to use a substitute, EPA strongly encourages you to apply the information when using these substitutes. In many instances, the information simply refers to standard operating practices in existing industry and/or building-code standards. Thus, many of these statements, if adopted, would not require significant changes to existing operating practices.

Submissions to EPA for the use of the substitutes listed in this document may be found under category VI-D of EPA air docket A-91-42 at the address described above under ADDRESSES. You can find other material supporting the decisions in this action under category IX-B of EPA docket A-91-42 and in e-docket OAR-2003-0118 at http://www.epa.gov/edocket/.

A. Refrigeration

1. R-407C

EPA's decision. R-407C is acceptable for use in new and retrofit equipment as a substitute for R-502 in:

• retail food refrigeration

• cold storage warehouses

• commercial ice machines

• refrigerated transport

• ice skating rinks

• water coolers

• residential dehumidifiers

• vending machines

• industrial process air conditioning

• reciprocating chillers

• screw chillers

• industrial process refrigeration

• non-mechanical heat transfer systems

• household refrigerators and freezers

• household and light commercial air conditioning

R-407C is a blend of 23% by weight HFC-32 (difluoromethane, Chemical Abstract Service [CAS] No. 75-10-5), 25% by weight HFC-125 (pentafluoroethane, CAS No. 354-33-6) and 52% by weight HFC-134a (1,1,1,2-tetrafluoroethane, CAS No. 811-997-2). The submission may be found in EPA Air Docket A-91-42, item VI-D-293.

EPA previously listed R-407C as an acceptable alternative for hydrochlorofluorocarbon (HCFC)-22 and chlorofluorocarbons (CFCs) (February 8, 1996; 61 FR 4736) and as an acceptable substitute for HCFC blends (December 20, 2002; 67 FR 77927) in various refrigeration and air conditioning end uses under SNAP.

Environmental information. The ozone depletion potential (ODP) or R-407C is zero. The Global Warming Potentials (GWPs) of HFC-32, HFC-125, and HFC-134a are 543, 3450, and 1320, respectively (relative to carbon dioxide, using a 100-year time horizon (United Nations Environment Programme (UNEP) and World Meteorological Organization (WMO) Scientific Assessment of Ozone Depletion: 2002).) The atmospheric lifetimes of these constituents as 4.9, 29 and 14.0 years, respectively.

All components of this blend are excluded from the definition of volatile organic compound (VOC) under Clean Air Act regulations addressing the development of State implementation plans (SIPs) to attain and maintain the national ambient air quality standards. 40 CFR 51.100(s).

Flammability information. While HFC-32 is moderately flammable, the blend as formulated and under worst case fractionated formulation scenarios is not flammable.

Toxicity and exposure data. All components of the blend have 8 hour/day, 40 hour/week workplace environmental exposure limits (WEELs) of 1000 ppm established by the American Industrial Hygiene Association (AIHA). EPA expects users to follow all recommendations specified in the Material Safety Data Sheet (MSDS) for the blend and the individual components and other safety precautions common in the refrigeration and air conditioning industry. We also expect that users of R-407C will adhere to the AIHA's WEELs.

Comparison to other refrigerants. R-407C is not an ozone depleter; thus, it poses a lower risk for ozone depletion than R-502, a blend of HCFC-22 and CFC-115, the ODS it replaces. R-407C has a comparable or lower GWP than most other substitutes for R-502. Flammability and toxicity risks are low, as discussed above. Thus, we find that R-407C is acceptable because there are no other substitutes that are currently or potentially available and that provide a substantially reduced risk to public health and the environment in the end uses listed.

2. ISCEON 89

EPA's decision. ISCEON 89 is acceptable for use in new and retrofit equipment as a substitute for R-13B1 in very low temperature refrigeration. ISCEON 89 is a blend of 86% by weight HFC-125 (pentafluoroethane, CAS No. 354-33-6), 9% by weight PFC-218 (octofluoropropane, CAS NO. 76-19-7) and 5% by weight R-290 (propane, CAS No. 74-98-6). The submission may be found in EPA Air Docket A-91-42, item VI-D-293.

Environmental information. The ozone depletion potential (ODP) of ISCEON 89 is zero. Relative to carbon dioxide, using a 100-year time horizon, from the source cited above in IA1, the Global Warming Potentials (GWPs) of HFC-125 and PFC-218 are 3450 and 8690, respectively. The source lists the atmospheric lifetimes as 29 years for HFC-125 and 2600 years for PFC-218. The source does not list a GWP for propane, but it is thought to be on the order of 10 to 20.

Because of the high GWP of HFC-125 and especially PFC-218, EPA strongly encourages prompt identification and repair of any leaks that may occur. EPA notes that most of the R-13B1 alternatives already listed as acceptable for use within the very low temperature refrigeration end use have GWPs as high or higher than this blend, and encourages the continued search for lower-GWP alternatives for this end use. The contribution of these blends to global warming will be minimized through the implementation of the venting prohibition under section 608(c)(2) of the Clean Air Act (See 40 CFR part 82, subpart F). This section and EPA's implementing regulations at subpart F of 40 CFR part 82 prohibit venting or release of substitutes for class I and class II ozone depleting substances used in refrigeration and air-conditioning and require proper handling and disposal of these substances, such as recycling or recovery.

Propane is defined as a volatile organic compound (VOC) under Clean Air Act regulations addressing the development of State implementation plans (SIPs) to attain and maintain the national ambient air quality standards. 40 CFR 51.100(s). HFC-125 and PFC-218 are excluded from the definition of VOC under those regulations.

Flammability information. While propane is flammable, the blend formulated as submitted is not. The submitter has provided data to indicate that under a worst case fractionation scenario, the blend will have a lower flammable limit (LFL) of 6% by volume. Due to this minor risk of flammability, EPA expects users to take extra precautions while handling this blend, including those listed under Toxicity and exposure data, below.

Toxicity and exposure data. All components of the blend have workplace guidance level exposure limits on the order of 1000 ppm. EPA believes this exposure limit will be protective of human health and safety. EPA expects users to adhere to all exposure limits, follow all recommendations specified in the Material Safety Data Sheet (MSDS) for the blend and the individual components, and undertake all other safety precautions common in the refrigeration and air conditioning industry.

Comparison to other refrigerants. ISCEON 89 is not an ozone depleter; thus, it reduces the associated risk compared to R-13B1, the ODS it replaces. ISCEON 89 has a comparable or lower GWP than most other substitutes for R-13B1 in very low temperature refrigeration end use. Thus, we find that ISCEON 89 is acceptable because it reduces overall risk to public health and the environment in the end use listed.

3. RS-44

EPA's decision. RS-44 is acceptable for use in new and retrofit equipment as a substitute for HCFC-22 in the following end uses:

• industrial process refrigeration

• industrial process air conditioning

• ice skating rinks

• cold storage warehouses

• refrigerated transport

• retail food refrigeration

• commercial ice machines

• household refrigerators and freezers

• residential dehumidifiers

• screw chillers

• reciprocating chillers

• centrifugal chillers

• household and light commercial air conditioning

The submitter of RS-44 claims that the composition of this blend is confidential business information. You can find a version of the submission with information claimed confidential by the submitter removed in EPA Air Docket A-91-142, item VI-D-295.

Environmental information. The ozone depletion potential (ODP) of RS-44 is zero. The Global Warming Potentials (GWPs) of the constituents are all below 5000 (relative to carbon dioxide, using a 100-year time horizon, from the source listed in IA1).

At least one component of this blend has not been excluded from the definition of VOC under Clean Air Act regulations addressing the development of SIPs to attain and maintain the national ambient air quality standards. 40 CFR 51.100(s).

Flammability information. While at least one component of the blend is moderately flammable, the submitter has provided test results that show the blend as formulated and at worst case formulation and worst case fractionated formulation conditions is not flammable.

Toxicity and exposure data. Components of the blend have workplace guidance level exposure limits on the order of 600 to 1000 ppm. EPA believes this exposure limit will be protective of human health and safety. EPA expects users to follow all recommendations specified in the Material Safety Data Sheet (MSDS) for the blend and the individual components and other safety precautions common in the refrigeration and air conditioning industry.

Comparison to other refrigerants. RS-44 is not an ozone depleter; thus, it reduces risk from ozone depletion compared to CFC-12, the ODS it replaces. RS-44 has a comparable or lower GWP than most other substitutes for HCFC-22. Flammability and toxicity risks are low, as discussed above. Thus, we find that RS-44 is acceptable because it reduces overall risk to public health and the environment in the end uses listed.

B. Solvents Cleaning

1. HFE-7000

Hydrofluoroether (HFE)-7000 is acceptable for use as a substitute for methyl chloroform and CFC-113 in the precision cleaning and electronics cleaning end uses. 3M, the submitter, indicates that this chemical is also known as HFE-301 and propane, 1,1,1,2,2,3,3 hepta fluoro-3-methoxy or 1-(methoxy)-1,1,2,2,3,3,3-heptafluoropropane. The empirical formula is C4H3F7O and it is also identified as CH3-O-CF2-CF2-CF3 and R-E347mcc1. You can find a version of the submission with information claimed confidential by the submitter removed, in EPA Air Docket A-91-42, items VI-D-272 and VI-D-300. EPA previously found HFE-7000 acceptable in several refrigerant end uses (March 22, 2002; 67 FR 13272).

Environmental information. The ODP of HFE-7000 is zero. The GWP is estimated as 400 (derived from Ninomiya et al., 2000) relative to carbon dioxide, using a 100-year time horizon. Experimental data indicates a lifetime of 4.7 years (Ninomiya et al., 2000).

HFE-7000 is considered a VOC. This chemical is being reviewed by EPA for exclusion from the definition of VOC under Clean Air Act regulations addressing the development of State implementation plans (SIPs) to attain and maintain the national ambient air quality standards. 40 CFR 51.100(s).

Flammability information. This chemical is nonflammable.

Toxicity and exposure data. The manufacturer has recommended an acceptable exposure limit (AEL) of 75 ppm over an eight-hour time-weighted average. EPA has reviewed this exposure limit and believes it is protective of human health and safety. We expect users to follow all recommendations specified in the MSDS for this chemical.

Comparison to other aerosol solvents. HFE-7000 is not an ozone depleter; thus, in the electronics and precision cleaning end uses, it reduces risk overall compared to methyl chloroform and CFC-113, the ODSs it replaces. The GWP and atmospheric lifetime of HFE-7000 are lower than those of several other acceptable alternatives that are cleaning solvents.

C. Foam Blowing

1. Ecomate™

EPA's decision. Ecomate™ is acceptable as a substitute for CFCs and HCFCs in the following end-uses:

• Rigid polyurethane and polyisocyanurate laminated boardstock;

• Rigid polyurethane appliance;

• Rigid polyurethane slabstock and other foams;

• Rigid polyurethane commercial refrigeration and sandwich panels; and

• Polyurethane integral skin foam.

The submitter, Foam Supplies, claims that the composition of Ecomate™ is confidential business information (see docket A-91-42, item VI-D-296).

Environmental information. Ecomate ™ has no ODP and very low or zero global warming potential (GWP). Users should be aware that Ecomate ™ is not excluded from the definition of volatile organic compound (VOC) under Clean Air Act regulations addressing the development of State implemention plans (SIPs) to attain and maintain the national ambient air quality standards. 40 CFR 51.100(s). For more information refer to the manufacturer of Ecomate ™, EPA regulations, and your state or local air quality agency. Also, because Ecomate ™ is considered hazardous, spills and disposal should be handled in accordance with requirements of the Resource Conservation and Recovery Act (RCRA).

Flammability information: Ecomate ™ is flammable and should be handled with proper precautions. Use of Ecomate ™ will require safe handling and shipping as prescribed by OSHA and DOT (for example, using personal safety equipment and following requirements for shipping hazardous materials at 49 CFR parts 170 through 173). However, when blended with fire retardant, the flammability of Ecomate ™ can be reduced to make a formulation that is either combustible or non-flammable (refer to the manufacturer of Ecomate ™ for more information). Due to its flammability, EPA is not finding Ecomate ™ acceptable for use in spray foam at this time. For information on the safety training requirements for use of flammable blowing agents in spray foam refer to SNAP Notice of Acceptability 11 (64 FR 68039, December 6, 1999) or contact the EPA SNAP program.

Toxicity and exposure data. Ecomate ™ should be handled with proper precautions. EPA anticipates that Ecomate ™ will be used in such a manner so that any recommendations specified in the manufacturers' Material Safety Data Sheets (MSDSs) are followed. OSHA established a permissible exposure limit for the main component of Ecomate ™ of 100 ppm for a time-weighted average over an eight-hour work shift.

Comparison to other foam blowing agents. Ecomate ™ is not an ozone depleter; thus, it reduces risk overall compared to the ODS it replaces. Ecomate ™ has a comparable or lower GWP than the other substitutes for CFCs and HCFCs in these end uses. Thus, we find that Ecomate ™ is acceptable because it reduces overall risk to public health and the environment in the end uses listed.

2. HFC-245fa

EPA's decision. Hydrofluorocarbon (HFC)-245fa is an acceptable substitute for all HCFCs in:

• Rigid polyurethane and polyisocyanurate laminated boardstock;

• Rigid polyurethane appliance;

• Rigid polyurethane slabstock and other foams;

• Rigid polyurethane commercial refrigeration and sandwich panels;

• Phenolic insulation board and bunstock;

• Polyolefin;

• Polystyrene: extruded boardstock and billet;

• Polyurethane integral skin foam.

HCF-245fa is also known as 1,1,1,3,3-pentafluoropropane (CAS Registry No. 460-73-1). We previously found HFC-245fa acceptable for use as a substitute for CFC-11 and HCFC-141b in foam blowing (64 FR 68041, December 6, 1999), refrigeration and air conditioning (65 FR 37901, June 19, 2000) and aerosols (67 FR 13272, March 22, 2002).

In its original rulemaking on March 18, 1994 (59 FR 13084), the SNAP program addressed the use of blends in foam blowing applications. EPA determined that notification was not required for “use of blends or mixtures of substitutes listed as acceptable under the SNAP program in open-celled or closed-cell or semi-rigid end uses” except in the following end-uses: polyurethane rigid laminated boardstock; polystyrene extruded boardstock and billet foams; phenolic foams; and polyolefin foams. Therefore, use of HFC-245fa in blends with other substitutes that EPA has found acceptable ¹ as HCFC replacements is currently acceptable in the following end uses:

¹ By acceptable, in this case we mean acceptable, acceptable subject to use conditions, or acceptable subject to use limits.

• Rigid polyurethane appliance;

• Rigid polyurethane slabstock and other foams;

• Rigid polyurethane commercial refrigeration and sandwich panels;

• Polyurethane integral skin foam.

Approval of an HFC-245fa blend in any other end-use would require formal determination by EPA. Blends of HFC-245fa and other substitutes EPA has found acceptable as replacements for HCFCs are subject to the same conditions that apply to the individual substitutes (e.g., flammable blowing agents in spray foam require EPA approval and safety training). For more information on HFC-245fa and its blends refer to the original listing (64 FR 68041, December 6, 1999) and the information below for blends of HFC-245fa and HCFC-22.

3. Blends of HFC-245fa and HCFC-22

EPA's decision. Blends of HFC-245fa and HCFC-22 are acceptable substitutes for blends of HCFC-141b and HCFC-22, where the HFC-245fa replaces the HCFC-141b in:

• Rigid polyurethane and polysocyanurate laminated boardstock;

• Rigid polyurethane appliance;

• Rigid polyurethane slabstock and other foams;

• Rigid polyurethane commercial refrigeration and sandwich panels;

• Phenolic insulation board and bunstock;

• Polyolefin;

• Polyurethane integral skin foam.

Further information on HFC-245fa is described above in section C.2. of this document.

Environmental information. HFC-245fa has an ODP of zero. It has a GWP of 1022. This value is similar to or lower than the GWP of the substances that HFC-245fa would be replacing. Both HFC-245fa and HCFC-22 have been excluded from the definition of VOC under Clean Air regulations addressing the development of State implementation plans (SIPs) to attain and maintain the national ambient air quality standards. 40 CFR 51.100(s).

Flammability. Blends of HFC-245fa and HCFC-22 are non-flammable.

Toxicity and exposure data. EPA anticipates that HFC-245fa will be used in such a manner so that any recommendations specified in the manufacturers' Material Safety Data Sheets (MSDSs) are followed. We also expect that the workplace exposure level will not exceed the American Industrial Hygiene Association's (AIHA) workplace environmental exposure limit (WEEL) of 300 ppm for HFC-245fa or the American Conference of Governmental Industrial Hygienists (ACGIH) Threshold Limit Value (TLV) of 1000 ppm for HCFC-22.

The blend of HFC-245fa and HCFC-22 has moderate to low toxicity. EPA expects that these blends will be used in a manner such that occupational exposure to any component of the blend does not exceed the WEEL for that chemical.

Comparison to other foam blowing agents. HFC-245fa has a lower ODP than HCFC-141b, the ODS it replaces; thus, blends of HFC-245fa and HCFC-22 reduces risk overall compared to the ODS blends they replace. Blends of HFC-245fa and HCFC-22 have comparable or lower GWP than HCFC-141b and other approved substitutes for HCFC-141b. Blends of HFC-245fa and HCFC-22 are non-flammable. Blends of HFC-245fa and HCFC-22 exhibit moderate to low toxicity and guidance is available from the AIHA and the ACGIH on their use in the workplace. Thus, we find that blends of HFC-245fa and HCFC-22 are acceptable because they reduce overall risk to public health and the environment in the end uses listed.

D. Fire Suppression and Explosion Protection

1. HFC-125 with 0.15% d-limonene (NAF S-125)

EPA's decision. NAF S-125 is acceptable for use as a substitute for halon 1301 in the total flooding end use in both normally occupied and unoccupied spaces. NAF S-125 is a mixture of HFC-125 containing 0.15% d-limonene by weight. HFC-125 is also known as 1,1,1,2,2-pentafluoroethane, CAS No. 354-33-6. Another name for d-limonene is 4-isopropenyl-1-methyl-1-cyclohexene, CAS No. 5989-27-5. EPA finds the blend acceptable as submitted; however, blends containing more than 0.15% d-limonene are not addressed by today's decision. EPA previously found HFC-125 acceptable in total flooding (January 29, 2002; 67 FR 4185). EPA previously found the entire class of terpenes, including d-limonene, acceptable in solvent cleaning (March 18, 1994; 59 FR 13044).

Environmental information. Both of the components of NAF S-125 have an ozone depletion potential of zero. HFC-125 has a global warming potential (GWP) of 2800 and d-limonene has a GWP of 10. These values are lower than the GWP of Halon 1301 (6900).

HFC-125 is excluded from the definition of volatile organic compound (VOC) under Clean Air Act regulations addressing the development of State implementation plans (SIPs) to attain and maintain the national ambient air quality standards. 40 CFR 51.100(s). d-limonene is used as a solvent in cleaning solutions and has a variety of uses. d-limonene is a VOC. Given that d-limonene exists at higher percentages in commonly used cleaners and polishes than it does in NAF S-125, the effects of fire extinguishers containing d-limonene upon the environment and the general population are expected to be minimal.

Flammability. Although d-limonene is flammable, the blend is non-flammable.

Toxicity and exposure data. As with other fire suppressants, EPA recommends that you minimize exposure to this agent. If personnel are exposed to the agent, they should exit the area within five minutes or less. EPA recommends that unnecessary exposure to fire suppression agents and their decomposition products be avoided and that personnel exposure be limited to no more than 5 minutes.

In order to keep exposure levels as low as possible, EPA recommends the following for establishments installing and maintaining total flooding systems:

—Put adequate ventilation in place. If ventilation is suspected to be inadequate, self-contained breathing apparatus (SCBA) should be available;

—Wear proper personal protection equipment (impervious butyl gloves, eye protection, chemical resistant aprons, long sleeves, and safety shoes);

—Clean up all spills immediately in accordance with good industrial hygiene practices; and

—Provide training for safe handling procedures to all employees that would be likely to handle the containers of NAF S 125 or extinguishing units filled with the material.

Use of this agent should conform with relevant Occupational Safety and Health Administration (OSHA) requirements, including 29 CFR part 1910, subpart L, § 1910.160 for fixed fire extinguishing systems, § 1910.162 for gaseous agents and § 1910.165 for predischarge employee alarms. Per OSHA requirements, protective gear (self-contained breathing apparatus) should be available in the event that personnel reenter the area. In addition, also observe the guidelines in the National Fire Protection Association (NFPA) 2001 standard for use of Clean Agent Fire Extinguishing Systems for use of HFC-125.

Comparison to other fire suppressants. NAF S-125 has no ODP; thus, it reduces risk overall compared to halon 1301, the ODS it replaces. EPA has already found acceptable HFC-125, the main ingredient in NAF S-125. NAF S-125 has a GWP comparable with that of many other acceptable substitutes for halon 1301. Thus, we find that NAF S-125 is acceptable because it does not present a greater risk to public health and the environment in the end use listed than other substitutes that are available.

E. Aerosols

1. HFE-7000

HFE-7000 is acceptable for use as a substitute for methyl chloroform, CFC-113, and HCFC-141b in the aerosol solvent end use. For further information about HFE-7000, see above in section B.1 on solvent cleaning.

Comparison to other aerosol solvents. HFE-7000 is not an ozone depleter; thus, in the aerosol solvent end use, it reduces risk overall compared to methyl chloroform, CFC-113, and HCFC-141b, the ODSs it replaces. The GWP and atmospheric lifetime of HFE-7000 are lower than those of a number of other acceptable alternatives that are aerosol solvents.

II. Section 612 Program

A. Statutory Requirements

Section 612 of the Clean Air Act authorizes EPA to develop a program for evaluating alternatives to ozone-depleting substances. We refer to this program as the Significant New Alternatives Policy (SNAP) program. The major provisions of section 612 are:

• Rulemaking—Section 612(c) requires EPA to promulgate rules making it unlawful to replace any class I (chlorofluorocarbon, halon, carbon tetrachloride, methyl choloroform, and hydrobromofluorocarbon) or class II (hydrochlorofluorocarbon) substance with any substitute that the Administrator determines may present adverse effects to human health or the environment where the Administrator has identified an alternative that (1) reduces the overall risk to human health and the environment, and (2) is currently or potentially available.

• Listing of Unacceptable/Acceptable Substitutes—Section 612(c) also requires EPA to publish a list of the substitutes unacceptable for specific uses. EPA must publish a corresponding list of acceptable alternatives for specific uses.

• Petition Process—Section 612(d) grants the right to any person to petition EPA to add a substance to or delete a substance from the lists published in accordance with section 612(c). The Agency has 90 days to grant or deny a petition. Where the Agency grants the petition, it must publish the revised lists within an additional six months.

• 90-day Notification—Section 612(e) directs EPA to require any person who produces a chemical substitute for a class I substance to notify the Agency not less than 90 days before new or existing chemicals are introduced into interstate commerce for significant new uses as substitutes for a class I substance. The producer must also provide the Agency with the producer's unpublished health and safety studies on such substitutes.

• Outreach—Section 612(b)(1) states that the Administrator shall seek to maximize the use of federal research facilities and resources to assist users of class I and II substances in identifying and developing alternatives to the use of such substances in key commercial applications.

• Clearinghouse—Section 612(b)(4) requires the Agency to set up a public clearinghouse of alternative chemicals, product substitutes, and alternative manufacturing processes that are available for products and manufacturing processes which use class I and II substances.

B. Regulatory History

On March 18, 1994, EPA published the final rulemaking (59 FR 13044) which described the process for administering the SNAP program. In the same notice, we issued the first acceptability lists for substitutes in the major industrial use sectors. These sectors include:

• Refrigeration and air conditioning;

• Foam blowing;

• Solvents cleaning;

• Fire suppression and explosion protection;

• Sterilants;

• Aerosols;

• Adhesives, coatings and inks; and

• Tobacco expansion.

These sectors compose the principal industrial sectors that historically consumed the largest volumes of ozone-depleting compounds.

As described in this original rule for the SNAP program, EPA does not believe that rulemaking procedures are required to list alternatives as acceptable with no limitations. Such listings do not impose any sanction, nor do they remove any prior license to use a substance. Therefore, by this notice we are adding substances to the list of acceptable alternatives without first requesting comment on new listings.

However, we do believe that notice-and-comment rulemaking is required to place any substance on the list of prohibited substitutes, to list a substance as acceptable only under certain conditions, to list substances as acceptable only for certain uses, or to remove a substance from the lists of prohibited or acceptable substitutes. We publish updates to these lists as separate notices of rulemaking in the Federal Register.

The Agency defines a “substitute” as any chemical, product substitute, or alternative manufacturing process, whether existing or new, intended for use as a replacement for a class I or class II substance. Anyone who produces a substitute must provide EPA with health and safety studies on the substitute at least 90 days before introducing it into interstate commerce for significant new use as an alternative. This requirement applies to substitute manufacturers, but may include importers, formulators, or end-users, when they are responsible for introducing a substitute into commerce.

You can find a complete chronology of SNAP decisions and the appropriate Federal Register citations from the SNAP section of EPA's Ozone Depletion World Wide Web site at www.epa.gov/ozone/snap/chron.html. This information is also available from the Air Docket (see ADDRESSES section above for contact information).

Dated: August 7, 2003.
Brian J. McLean,
Director, Office of Atmospheric Programs, Office of Air and Radiation.

Appendix A: Summary of Acceptable Decisions

End-Use | Substitute | Decision | Further information
Refrigeration and Air Conditioning
Industrial process refrigeration (retrofit and new) | RS-44 as a substitute for HCFC-22 | Acceptable
| R-407C as a substitute for R-502 | Acceptable
Industrial process air conditioning (retrofit and new) | RS-44 as a substitute for HCFC-22 | Acceptable
| R-407C as a substitute for R-502 | Acceptable
Ice skating rinks (retrofit and new) | RS-44 as a substitute for HCFC-22 | Acceptable
| R-407C as a substitute for R-502 | Acceptable
Cold storage warehouses (retrofit and new) | RS-44 as a substitute for HCFC-22 | Acceptable
| R-407C as a substitute for R-502 | Acceptable
Refrigerated transport (retrofit and new) | RS-44 as a substitute for HCFC-22 | Acceptable
| R-407C as a substitute for R-502 | Acceptable
Retail food refrigeration (retrofit and new) | RS-44 as a substitute for HCFC-22 | Acceptable
| R-407C as a substitute for R-502 | Acceptable
Vending machines (retrofit and new) | R-407C as a substitute for R-502 | Acceptable
Water coolers (retrofit and new) | R-407C as a substitute for R-502 | Acceptable
Commercial ice machines (retrofit and new) | RS-44 as a substitute for HCFC-22 | Acceptable
| R-407C as a substitute for R-502 | Acceptable
Household refrigerators and freezers (retrofit and new) | RS-44 as a substitute for HCFC-22 | Acceptable
| R-407C as a substitute for R-502 | Acceptable
Centrifugal chillers (retrofit and new) | RS-44 as a substitute for HCFC-22 | Acceptable
Reciprocating chillers (retrofit and new) | RS-44 as a substitute for HCFC-22 | Acceptable
| R-407C as a substitute for R-502 | Acceptable
Screw chillers (retrofit and new) | RS-44 as a substitute for HCFC-22 | Acceptable
| R-407C as a substitute for R-502 | Acceptable
Very low temperature refrigeration (retrofit and new) | ISCEON 89 as a substitute for R-13B1 | Acceptable
Non-mechanical heat transfer systems (retrofit and new) | R-407C as a substitute for R-502 | Acceptable
Household and light commercial air conditioning (retrofit and new) | RS-44 as a substitute for HCFC-22 | Acceptable
| R-407C as a substitute for R-502 | Acceptable
Residential dehumidifiers (retrofit and new) | RS-44 as a substitute for HCFC-22 | Acceptable
| R-407C as a substitute for R-502 | Acceptable
Solvent Cleaning
Precision cleaning | HFE-7000 as a substitute for CFC-113, methyl chloroform, and HCFC-141b | Acceptable | EPA expects that the workplace environmental exposure will not exceed the workplace exposure limit of 75 ppm and that users will observe the manufacturer's recommendations in MSDSs.
Electronics cleaning | HFE-7000 as a substitute for CFC-113, methyl chloroform, and HCFC-141b | Acceptable | EPA expects that the workplace environmental exposure will not exceed the workplace exposure limit of 75 ppm and that users will observe the manufacturer's recommendations in MSDSs.
Foam Blowing
Rigid polyurethane and polyisocyanurate laminated boardstock | Ecomate as a substitute for CFCs and HCFCs | Acceptable
| HFC-245fa as a substitute for HCFCs | Acceptable
| Blends of HFC-245fa and HCFC-22 as a substitute for blends of HCFC-141b and HCFC-22 | Acceptable
Rigid polyurethane appliance foam | Ecomate as a substitute for CFCs and HCFCs | Acceptable
| HFC-245fa as a substitute for HCFCs | Acceptable
| Blends of HFC-245fa and HCFC-22 as a substitute for blends of HCFC-141b and HCFC-22 | Acceptable
Rigid polyurethane slabstock and other foams | Ecomate as a substitute for CFCs and HCFCs | Acceptable
| HFC-245fa as a substitute for HCFCs | Acceptable
| Blends of HFC-245fa and HCFC-22 as a substitute for blends of HCFC-141b and HCFC-22 | Acceptable
Rigid polyurethane commercial refrigeration and sandwich panels | Ecomate as a substitute for CFCs and HCFCs | Acceptable
| HCF-245fa as a substitute for HCFCs | Acceptable
| Blends of HFC-245fa and HCFC-22 as a substitute blends of HCFC-141b and HCFC-22 | Acceptable
Polyurethane integral skin foam | Ecomate as a substitute for CFCs and HCFCs | Acceptable
| HFC-245fa as a substitute for HCFCs | Acceptable
| Blends of HFC-245fa and HCFC-22 as a substitute for blends of HCFC-141b and HCFC-22 | Acceptable
Phenolic insulation board and bunstock | HFC-245fa as a substitute for HCFCs | Acceptable
| Blends of HFC-245fa and HCFC-22 as a substitute for blends of HCFC-141b and HCFC-22 | Acceptable
Polyolefin | HFC-245fa as a substitute for HCFCs | Acceptable
| Blends for HFC-245fa and HCFC-22 as a substitute for blends of HCFC-141b and HCFC-22 | Acceptable
Fire Suppression and Explosion Protection
Total flooding | NAF S-125 as a substitute for Halon 1301 | Acceptable | Use of the agent should be in accordance with the safety guidelines in the latest edition of the NFPA 2001 Standard for Clean Agent Fire Extinguishing Systems.
|  |  | Extinguisher bottles should be clearly labeled with the potential hazards associated with the use of HFC-125 and d-limonene, as well as handling procedures to reduce risk resulting from these hazards.
|  |  | See additional notes 1, 2, 3, 4, 5.
Aerosols
Aerosol solvents | HFE-7000 as a substitute for CFC-113, methyl chloroform, and HCFC-141b | Acceptable | EPA expects that the workplace environmental exposure will not exceed the workplace exposure limit of 75 ppm and that users will observe the manufacturer's recommendations in MSDSs.
Additional notes:
1—Should conform with relevant OSHA requirements, including 29 CFR 1910, Subpart L, Sections 1910.160, 1910.161 (dry chemicals and aerosols) and 1910.162 (gaseous agents).
2—Per OSHA requirements, protective gear (SCBA) should be available in the event personnel should reenter the area.
3—Discharge testing should be strictly limited to that which is essential to meet safety or performance requirements.
4—The agent should be recovered from the fire protection system in conjunction with testing or servicing, and recycled for later use or destroyed.
5—EPA has no intention of duplicating or displacing OSHA coverage related to the use of personal protective equipment (e.g., respiratory protection), fire protection, hazard communication, worker training or any other occupational safety and health standard with respect to halon substitutes.

[FR Doc. 03-21425 Filed 8-20-03; 8:45 am]

BILLING CODE 6560-50-P